DEPARTMENT OF ENERGY

Federal Energy Regulatory Commission

Combined Notice of Filings #1

Take notice that the Commission received the following electric corporate filings:

Docket Numbers: EC15-58-000.

Applicants: ALLETE Clean Energy, Inc., Chanarambie Power Partners LLC.

Description: Supplemental clarification to January 14, 2015 Joint Application Under Section 203 of the Federal Power Act of ALLETE Clean Energy, Inc. and Chanarambie Power Partners, LLC.

Filed Date: 2/4/15.

Accession Number: 20150204-5167.

Comments Due: 5 p.m. ET 2/17/15.

Take notice that the Commission received the following exempt wholesale generator filings:

Docket Numbers: EG15-46-000.

Applicants: Pio Pico Energy Center, LLC.

Description: Notice of Self-Certification of Pio Pico Energy Center, LLC.

Filed Date: 2/5/15.

Accession Number: 20150205-5039.

Comments Due: 5 p.m. ET 2/26/15.

Take notice that the Commission received the following electric rate filings:

Docket Numbers: ER11-3417-008; ER10-2895-012; ER14-1964-003; ER13-2143-005; ER10-3167-004; ER13-203-004; ER11-2292-012; ER11-3942-011; ER11-2293-012; ER10-2917-012; ER11-2294-011; ER12-2447-010; ER13-1613-005; ER10-2918-013; ER12-199-011; ER10-2920-012; ER11-3941-010; ER10-2921-012; ER10-2922-012; ER13-1346-004; ER10-2966-012; ER11-2383-007; ER10-3178-005.

Applicants: Alta Wind VIII, LLC, Bear Swamp Power Company LLC, BIF II Safe Harbor Holdings LLC, Black Bear Development Holdings, LLC, Black Bear Hydro Partners, LLC, Black Bear SO, LLC, Brookfield Energy Marketing Inc., Brookfield Energy Marketing LP, Brookfield Energy Marketing US LLC, Brookfield Power Piney & Deep Creek LLC, Brookfield Renewable Energy Marketing US, Brookfield Smoky Mountain Hydropower LLC, Brookfield White Pine Hydro LLC, Carr Street Generating Station, L.P., Coram California Development, L.P., Erie Boulevard Hydropower, L.P., Granite Reliable Power, LLC, Great Lakes Hydro America, LLC, Hawks Nest Hydro LLC, Mesa Wind Power Corporation, Rumford Falls Hydro LLC, Safe Harbor Water Power Corporation, Windstar Energy, LLC.

Description: Notice of Change in Status of the Brookfield Companies.

Filed Date: 2/4/15.

Accession Number: 20150204-5181.

Comments Due: 5 p.m. ET 2/25/15.

Docket Numbers: ER13-2073-001.

Applicants: Source Power & Gas LLC.

Description: Notice of Change in Status of Source Power & Gas LLC.

Filed Date: 2/4/15.

Accession Number: 20150204-5180.

Comments Due: 5 p.m. ET 2/25/15.

Docket Numbers: ER15-988-000.

Applicants: Arizona Public Service Company.

Description: § 205(d) rate filing per 35.13(a)(2)(iii): Modifications to OATT Schedules 3, 5 and 6 to be effective 4/6/2015.

Filed Date: 2/4/15.

Accession Number: 20150204-5148.

Comments Due: 5 p.m. ET 2/25/15.

Docket Numbers: ER15-989-000.

Applicants: Southern California Edison Company.

Description: § 205(d) rate filing per 35.13(a)(2)(iii): Amended CLGIA and Distribution Service Agmt with Windhub Solar, LLC to be effective 2/6/2015.

Filed Date: 2/5/15.

Accession Number: 20150205-5004.

Comments Due: 5 p.m. ET 2/26/15.

Docket Numbers: ER15-990-000.

Applicants: Southwest Power Pool, Inc.

Description: Petition Of Southwest Power Pool, Inc. For Waiver Of Tariff Provisions.

Filed Date: 2/4/15.

Accession Number: 20150204-5179.

Comments Due: 5 p.m. ET 2/25/15.

Docket Numbers: ER15-991-000.

Applicants: Pacific Gas and Electric Company.

Description: § 205(d) rate filing per 35.13(a)(2)(iii): Amendment to the Vaca-Dixon Solar Station SGIA to be effective 4/7/2015.

Filed Date: 2/5/15.

Accession Number: 20150205-5109.

Comments Due: 5 p.m. ET 2/26/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 5, 2015.
Nathaniel J. Davis, Sr.,
Deputy Secretary.

[FR Doc. 2015-02817 Filed 2-10-15; 8:45 am]

BILLING CODE 6717-01-P